SMALL BUSINESS ADMINISTRATION

[Disaster Declaration # 10567 and # 10568]

Texas Disaster Number TX-00195

AGENCY: Small Business Administration.

ACTION: Amendment 1.

SUMMARY: This is an amendment of the Presidential declaration of a major disaster for the State of Texas (FEMA-1658-DR), dated 8/15/2006.

Incident: Flooding.

Incident Period: 7/31/2006 and continuing through 8/25/2006.

DATES: Effective Date: 8/25/2006.

Physical Loan Application Deadline Date: 10/16/2006.

EIDL Loan Application Deadline Date: 5/15/2007.

ADDRESSES: Submit completed loan applications to: U.S. Small Business Administration, National Processing and Disbursement Center, 14925 Kingsport Road Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Texas, dated 8/15/2006, is hereby amended to establish the incident period for this disaster as beginning 7/31/2006 and continuing through 8/25/2006.

All other information in the original declaration remains unchanged.

(Catalog of Federal Domestic Assistance Numbers 59002 and 59008)

Roger B. Garland,
Acting Associate Administrator for Disaster Assistance.

[FR Doc. E6-15100 Filed 9-11-06; 8:45 am]

BILLING CODE 8025-01-P